EVIRONMENTAL PROTECTION AGENCY

[EPA-HQ-OAR-2008-0312; FRL-8577-2]

Agency Information Collection Activities: Proposed Collection; Comment Request; Servicing of Motor Vehicle Air Conditioners, EPA ICR Number 1617.05, OMB Control Number 2060-0247

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on December 31, 2008. Before submitting the ICR to OMB for review and approval, EPA is soliciting comments on specific aspects of the proposed information collection as described below.

DATES: Comments must be submitted on or before August 8, 2008.

ADDRESSES: Submit your comments, identified by Docket ID No. EPA-HQ-OAR-2008-0312 by one of the following methods:

• http://www.regulations.gov: Follow the on-line instructions for submitting comments.

• E-mail: a-and-r-Docket@epa.gov.

• Fax: 202-566-1741.

• Mail: EPA Docket Center, Mailcode: 6102T, 1200 Pennsylvania Ave., NW., Washington, DC 20460.

• Hand Delivery: Public Reading Room, Room B102, EPA West Building, 1301 Constitution Avenue, NW., Washington, DC, Attention Docket ID No. EPA-HQ-OAR-2008-0312. Such deliveries are only accepted during the Docket's normal hours of operation, and special arrangements should be made for deliveries of boxed information.

Instructions: Direct your comments to Docket ID No. EPA-HQ-OAR-2008-0312. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Karen Thundiyil, Stratospheric Protection Division, Office of Atmospheric Programs, (MC 6205J), Environmental Protection Agency, 1200 Pennsylvania Ave., NW., Washington, DC 20460; telephone number: (202) 343-9464; fax number: (202) 343-2163; e-mail address: thundiyil.karen@epa.gov.

SUPPLEMENTARY INFORMATION:

How Can I Access the Docket and/or Submit Comments?

EPA has established a public docket for this ICR under Docket ID No. EPA-HQ-OAR-2008-0312, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25 people) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are new and used motor vehicle dealers, gasoline service stations, general automotive repair shops, and automotive repair shops not elsewhere classified.

ICR numbers: EPA ICR No. 1617.05, OMB Control No. 2060-0247.

ICR status: This ICR is currently scheduled to expire on December 31, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 609 of the Clean Air Act Amendments of 1990 (Act) provides general guidelines for motor vehicle air conditioning (MVAC) refrigerant handling and MVAC servicing. It states that “no person repairing or servicing motor vehicles for consideration may perform any service on a motor vehicle air conditioner involving the refrigerant for such air conditioner without properly using approved refrigerant recovery and/or recovery and recycling equipment (hereafter referred to as “refrigerant handling equipment”) and no such person may perform such service unless such person has been properly trained and certified.”

In 1992, EPA developed regulations under section 609 that were published in 57 FR 31242, and codified at 40 CFR Subpart B (§ 82.30 et seq.). The information required to be collected under the Section 609 regulations is currently approved for use through December 31, 2008. This supporting statement is submitted to justify an extension of the approval of use of this information. Pursuant to new requirements under the Paperwork Reduction Act, a notice was published in the Federal Register on October 4, 2005, announcing the intent to extend the renewal of this Information Collection Request and requesting comment on the renewal. Descriptions of the recordkeeping and reporting requirements mandated by section 609 and delineated in 40 CFR 82 subpart B are summarized below in this section.

Approved Refrigerant Handling Equipment: In accordance with Section 609(b)(2)(A), 40 CFR 82.36 requires that refrigerant handling equipment be certified by EPA or independent standards testing organizations. Certification standards are particular to the type of equipment and the refrigerant to be recovered, and must be consistent with the Society of Automotive Engineers (SAE) standards for MVAC equipment.

Approved independent standards testing organizations: Section 609(b)(2)(A) of the Act requires independent laboratory testing of refrigerant handling equipment to be certified by EPA. The Stratospheric Protection Division (SPD) requires independent laboratories to submit an application that documents: The organization's capacity to accurately test equipment compliance with applicable standards consistent with the SAE standards for handling refrigerant, an absence of conflict of interest or financial benefit based on test outcomes, and an agreement to allow EPA access to verify application information. Once an independent laboratory has been approved by EPA, the application is kept on file in the SPD. Two laboratories—Underwriters Laboratories Inc. and ETL Testing Laboratories—are currently approved to test refrigerant handling equipment. EPA does not anticipate that any organizations will apply to EPA in the future to become approved independent standards testing organizations. Therefore, annual hours and costs related to information submitted by these organizations have been eliminated.

Technician training and certification: According to Section 609(b)(4) of the Act, automotive technicians are required to be trained and certified in the proper use of approved refrigerant handling equipment. Programs that perform technician training and certification activities must apply to the SPD for approval by submitting verification that its program meets EPA standards. The information requested is used by the SPD to guarantee a degree of uniformity in the testing programs for motor vehicle service technicians.

Due to rapid developments in technology, the Agency requires that each approved technician certification program conducts periodic reviews and updates of test material, submitting a written summary of the review and program changes to EPA every two years. After the test has been approved by EPA, a hard copy remains on file with SPD. Currently, 24 testing programs are approved by EPA to train technicians in the proper use of refrigerant handling equipment. Six of these programs are designed specifically for individual company's own employees.

Certification, reporting and recordkeeping: To facilitate enforcement under Section 609, EPA has developed several recordkeeping requirements. All required records must be retained on-site for a minimum of three years, unless otherwise indicated.

Section 609(c) of the Act states that by January 1, 1992, no person may service any motor vehicle air conditioner without being properly trained and certified, nor without using properly approved refrigerant handling equipment. To this end, 40 CFR 82.42(a) states that by January 1, 1993, each service provider must have submitted to EPA on a one-time basis a statement signed by the owner of the equipment or another responsible officer that provides the name of the equipment purchaser, the address of the service establishment where the equipment will be located, the manufacturer name, equipment model number, date of manufacture, and equipment serial number. The statement must also indicate that the equipment will be properly used in servicing motor vehicle air conditioners and that each individual authorized by the purchaser to perform service is property trained and certified. The information is used by the SPD to verify compliance with Section 609 of the Act.

Any person who owns approved refrigerant handling equipment must maintain records of the name and address of any facility to which refrigerant is sent. Additionally, any person who owns approved refrigerant handling equipment must retain records demonstrating that all persons authorized to operate the equipment are currently certified technicians.

Finally, any person who sells or distributes a class I or class II refrigerant that is in a container of less than 20 pounds must verify that the purchaser is a properly trained and certified technician, unless the purchase of small containers is for resale only. In that case, the seller must obtain a written statement from the purchaser that the containers are for resale only, and must indicate the purchaser's name and business address. When a certified technician purchases small containers of refrigerant for servicing motor vehicles, the seller must have a reasonable basis for believing the accuracy of the information presented by the purchaser. In all cases, the seller must display a sign where sales occur that states the certification requirements for purchasers.

Burden Statement: The annual public reporting and recordkeeping burden for this collection of information is estimated to average 0.13 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 66,394.

Frequency of response: On occasion.

Estimated total average number of responses for each respondent: 1.

Estimated total annual burden hours: 6,700 hours.

Estimated total annual costs: $262,980.47. This includes an estimated burden cost of $262,980.47 and an estimated cost of $0 for capital investment or maintenance and operational costs.

Are There Changes in the Estimates From the Last Approval?

There is a decrease of 182 hours in the total estimated respondent burden compared with that identified in the ICR currently approved by OMB. There are two reasons for this decrease in burden hours. In 2002, it was estimated that there would be 4,000 purchases of small containers of class I and class II refrigerant for resale only by uncertified purchasers. It is estimated that at the time (in 2002), there were an estimated 32 million R-12 MVACs on the road. Today, it is estimated that there are only 11 million R-12 MVACs on the road, or roughly 65% less than there were in 2002. Therefore, to account for the decreased market for small containers of CFC-12 refrigerant, this ICR estimates that the number of purchases for resale only by uncertified purchasers of small cans will be 65% less than in 2002, or 1,370 purchases.

The second reason the burden hours have decreased is that the substantially identical equipment approval process is no longer applicable. This portion of Section 609(b)(2)(B) of the Act and 40 CFR 82.36(b) allowed for equipment that was purchased before the proposal of the regulations to be approved by EPA if it was substantially identical to equipment that had been certified by the EPA or approved independent laboratory. The substantially identical equipment regulation only relates to CFC-12 recovery and recycling equipment initially purchased before September 4, 1991; CFC-12 recovery-only equipment initially purchased before April 22, 1992; HFC-134a recovery and recycling, or recovery-only equipment initially purchased before March 6, 1996; equipment that recovers but does not recycle any single, specific refrigerant other than CFC-12 or HFC-134a that was initially purchased before March 6, 1996; or equipment that recovers and recycles HFC-134a and CFC-12 refrigerant using common circuitry that was initially purchased before March 6, 1996. Because the average lifetime of such equipment is roughly 7 years, all such equipment is obsolete today. Therefore, documentation requirements related to this section have been removed from this ICR. In the previous ICR, 12 establishment burden hours and $1,200 annual costs were allocated to this activity.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 2, 2008.
Brian J. McLean,
Director, Office of Atmospheric Programs.

[FR Doc. E8-12853 Filed 6-6-08; 8:45 am]

BILLING CODE 6560-50-P